DEPARTMENT OF HOMELAND SECURITY

U.S. Customs and Border Protection

Accreditation and Approval of Camin Cargo Control, Inc., as a Commercial Gauger and Laboratory

AGENCY: U.S. Customs and Border Protection, Department of Homeland Security.

ACTION: Notice of accreditation and approval of Camin Cargo Control, Inc., as a commercial gauger and laboratory.

SUMMARY: Notice is hereby given, pursuant to CBP regulations, that Camin Cargo Control, Inc., has been approved to gauge and accredited to test petroleum and certain petroleum products for customs purposes for the next three years as of September 28, 2016.

DATES: The accreditation and approval of Camin Cargo Control, Inc., as commercial gauger and laboratory became effective on September 28, 2016. The next triennial inspection date will be scheduled for September 2019.

FOR FURTHER INFORMATION CONTACT: Mr. Stephen Cassata, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 and 19 CFR 151.13, that Camin Cargo Control, Inc., 2304 East Burton Street, Sulphur, LA 70663, has been approved to gauge and accredited to test petroleum and certain petroleum products for customs purposes, in accordance with the provisions of 19 CFR 151.12 and 19 CFR 151.13. Camin Cargo Control, Inc., is approved for the following gauging procedures for petroleum and certain petroleum products set forth by the American Petroleum Institute (API):

API Chapters | Title
3 | Tank Gauging.
7 | Temperature Determination.
8 | Sampling.
11 | Physical Property.
12 | Calculations.
17 | Maritime Measurements.

Camin Cargo Control, Inc., is accredited for the following laboratory analysis procedures and methods for petroleum and certain petroleum products set forth by the U.S. Customs and Border Protection Laboratory Methods (CBPL) and American Society for Testing and Materials (ASTM):

CBPL No. | Method | Title
27-01 | ASTM D287 | Standard Test Method for API Gravity of Crude Petroleum and Petroleum Products (Hydrometer Method).
27-02 | ASTM D1298 | Standard Test Method for Density, Relative Density (Specific Gravity), or API Gravity of Crude Petroleum and Liquid Petroleum Products by Hydrometer Method.
27-03 | ASTM D4006 | Standard Test Method for Density, Relative Density (Specific Gravity), or API Gravity of Crude Petroleum and Liquid Petroleum Products by Hydrometer Method.
27-04 | ASTM D95 | Standard Test Method for Water in Petroleum Products and Bituminous Materials by Distillation.
27-05 | ASTM D4928 | Standard Test Method for Water in Crude Oils by Coulometric Karl Fischer Titration.
27-06 | ASTM D473 | Standard Test Method for Sediment in Crude Oils and Fuel Oils by the Extraction Method.
27-08 | ASTM D86 | Standard Test Method for Distillation of Petroleum Products.
27-11 | ASTM D445 | Standard Test Method for Kinematic Viscosity of Transparent and Opaque Liquids.
27-13 | ASTM D4294 | Standard test method for sulfur in petroleum and petroleum products by energy-dispersive x-ray fluorescence spectrometry.
27-14 | ASTM D2622 | Standard Test Method for Sulfur in Petroleum Products (X-Ray Spectrographic Methods).
27-46 | ASTM D5002 | Standard Test Method for Density and Relative Density of Crude Oils by Digital Density Analyzer.
27-48 | ASTM D4052 | Standard Test Method for Density and Relative Density of Liquids by Digital Density Meter.
27-50 | ASTM D93 | Standard Test Methods for Flash-Point by Pensky-Martens Closed Cup Tester.
27-53 | ASTM D2709 | Standard Test Method for Water and Sediment in Middle Distillate Fuels by Centrifuge.
27-57 | ASTM D7039 | Standard Test Method for Sulfur in Gasoline and Diesel Fuel by Monochromatic Wavelength Dispersive X-Ray Fluorescence Spectrometry.
27-58 | ASTM D5191 | Standard Test Method For Vapor Pressure of Petroleum Products (Mini Method).

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for the current CBP Approved Gaugers and Accredited Laboratories List. http://www.cbp.gov/about/labs-scientific/commercial-gaugers-and-laboratories.

Dated: June 13, 2017.
Ira S. Reese,
Executive Director, Laboratories and Scientific Services Directorate.

[FR Doc. 2017-13014 Filed 6-21-17; 8:45 am]

BILLING CODE 9111-14-P